DEPARTMENT OF COMMERCE

National Oceanic and Atmospheric Administration

Proposed Information Collection; Comment Request; 2010 NOAA Engagement Survey Tool

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 30, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Louisa Koch, Director, NOAA Office of Education, (202) 482-2563 or Louisa.Koch@noaa.gov.

SUPPLEMENTARY INFORMATION:

I. Abstract

NOAA supplies the nation with information, products and services that are essential public goods used in public and private sectors, science institutions and households around the world. Because NOAA's information, products and services are important to both the nation as a whole and to the daily lives of U.S. citizens, NOAA's Science Advisory Board (SAB) has identified a need for more effective two-way communication between its programs and the customers and clients it serves. This survey instrument will be used by NOAA's Office of Education and the Gulf of Mexico Regional Collaboration Team to obtain information used to assess NOAA's accessibility, responsiveness and respect for partners. These parameters are three of the seven parameters included in the Kellogg Engagement Test, which the SAB recommended NOAA use for assessing engagement with constituents. One objective of the survey is to collect responses to provide NOAA with information and feedback from its constituents that will lead to greater emphasis placed on the needs of NOAA partners, techniques to improve NOAA's products and services, and general improvement in the accessibility and responsiveness of NOAA to constituents. A longer term objective is for this survey to become a standard NOAA tool accessing engagement with constituents.

II. Method of Collection

Primarily, respondents will be asked to complete the survey online through the web-based survey tool “Survey Monkey” (http://www.surveymonkey.com). Alternatively, a print version of the survey will be made available upon request, which can be returned by mail or facsimile.

III. Data

OMB Control Number: None.

Form Number: None.

Type of Review: Regular submission.

Affected Public: Non-profit institutions; Federal, State or local government; business or other for-profit organizations.

Estimated Number of Respondents: 3,000.

Estimated Time Per Response: 15 minutes.

Estimated Total Annual Burden Hours: 750.

Estimated Total Annual Cost to Public: $50 in record keeping/reporting costs.

IV. Request for Comments

Comments are invited on: (a) Whether the proposed collection of information is necessary for the proper performance of the functions of the agency, including whether the information shall have practical utility; (b) the accuracy of the agency's estimate of the burden (including hours and cost) of the proposed collection of information;

(c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 4, 2010.
Gwellnar Banks,
Management Analyst, Office of the Chief Information Officer.

[FR Doc. 2010-4952 Filed 3-8-10; 8:45 am]

BILLING CODE 3510-KA-P